DEPARTMENT OF ENERGY

Federal Energy Regulatory Commission

Combined Notice of Filings

Take notice that the Commission has received the following Natural Gas Pipeline Rate and Refund Report filings:

Filings Instituting Proceedings

Docket Numbers: RP11-2360-000.

Applicants: Northwest Pipeline GP.

Description: Northwest Pipeline GP submits tariff filing per 154.402: ACA Fiscal Year 2011 Filing to be effective 10/1/2011.

Filed Date: 08/09/2011.

Accession Number: 20110809-5022.

Comment Date: 5 p.m. Eastern Time on Monday, August 22, 2011.

Docket Numbers: RP11-2361-000.

Applicants: Black Marlin Pipeline Company.

Description: Black Marlin Pipeline Company submits tariff filing per 154.203: NAESB Version 1.9-Third Compliance Filing to be effective 8/10/2011.

Filed Date: 08/10/2011.

Accession Number: 20110810-5028.

Comment Date: 5 p.m. Eastern Time on Monday, August 22, 2011.

Docket Numbers: RP11-2362-000.

Applicants: Northern Natural Gas Company.

Description: Northern Natural Gas Company submits tariff filing per 154.204: 20110810 Carlton Flow Obligations to be effective 11/1/2011.

Filed Date: 08/10/2011.

Accession Number: 20110810-5049.

Comment Date: 5 p.m. Eastern Time on Monday, August 22, 2011.

Docket Numbers: RP11-2363-000.

Applicants: Texas Eastern Transmission, LP.

Description: Texas Eastern Transmission, LP submits tariff filing per 154.204: AMDDO Election to be effective 10/1/2011.

Filed Date: 08/11/2011.

Accession Number: 20110811-5041.

Comment Date: 5 p.m. Eastern Time on Tuesday, August 23, 2011.

Docket Numbers: RP11-2364-000.

Applicants: LA Storage, LLC.

Description: LA Storage, LLC submits tariff filing per 154.202: LA Storage, LLC FERC Gas Tariff to be effective 10/11/2011.

Filed Date: 08/11/2011.

Accession Number: 20110811-5042.

Comment Date: 5 p.m. Eastern Time on Tuesday, August 23, 2011.

Any person desiring to intervene or protest in any of the above proceedings must file in accordance with Rules 211 and 214 of the Commission's Regulations (18 CFR 385.211 and 385.214) on or before 5 p.m. Eastern time on the specified comment date. Protests may be considered, but intervention is necessary to become a party to the proceeding.

Filings in Existing Proceedings

Docket Numbers: RP11-1823-002.

Applicants: Public Utilities Commission of Nevada an.

Description: Tuscarora Gas Transmission Company—2011 Cost and Revenue Study.

Filed Date: 08/09/2011.

Accession Number: 20110809-5115.

Comment Date: 5 p.m. Eastern Time on Monday, August 22, 2011.

Any person desiring to protest in any the above proceedings must file in accordance with Rule 211 of the Commission's Regulations (18 CFR 385.211) on or before 5 p.m. Eastern time on the specified comment date.

The filings are accessible in the Commission's eLibrary system by clicking on the links or querying the docket number.

eFiling is encouraged. More detailed information relating to filing requirements, interventions, protests, and service can be found at: http://www.ferc.gov/docs-filing/efiling/filing-req.pdf. For other information, call (866) 208-3676 (toll free). For TTY, call (202) 502-8659.

Dated: August 11, 2011.
Kimberly D. Bose,
Secretary.

[FR Doc. 2011-21282 Filed 8-19-11; 8:45 am]

BILLING CODE 6717-01-P